DEPARTMENT OF HOMELAND SECURITY

Coast Guard

33 CFR Parts 100

[Docket Number USCG-2015-0100]

RIN 1625-AA08

Special Local Regulations, Recurring Marine Events in Captain of the Port Long Island Sound Zone

AGENCY: Coast Guard, DHS.

ACTION: Notice of proposed rulemaking.

SUMMARY: The Coast Guard proposes to add, delete, and modify special local regulations for annual marine events in the Sector Long Island Sound Captain of the Port (COTP) Zone. When enforced, these regulated areas would restrict vessels from portions of water areas during certain annually recurring events. The proposed special local regulations are intended to expedite public notification and ensure the protection of the maritime public and event participants from the hazards associated with certain maritime events.

Comments and related material must be received by the Coast Guard on or before July 23, 2015.

Requests for public meetings must be received by the Coast Guard on or before July 14, 2015.

You may submit comments identified by docket number USCG-2015-0100 using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for instructions on submitting comments. To avoid duplication, please use only one of these four methods.

FOR FURTHER INFORMATION CONTACT: If you have questions on this rule, contact Petty Officer Ian M. Fallon, U.S. Coast Guard Waterways Management Division Sector Long Island Sound; telephone (203) 468-4565, or email Ian.M.Fallon@uscg.mil. If you have questions on viewing or submitting material to the docket, call Cheryl Collins, Program Manager, Docket Operations, telephone (202) 366-9826.

SUPPLEMENTARY INFORMATION:

Table of Acronyms

COTP Captain of the Port

FR Federal Register

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number [USCG-2015-0100] in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number [USCG-2015-0100] in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc). You may review a Privacy Act notice regarding our public dockets in the January 17, 2008, issue of the Federal Register (73 FR 3316).

4. Public meeting

We do not plan to hold a public meeting. But you may submit a request for one, using one of the methods specified under ADDRESSES. Please explain why you believe a public meeting would be beneficial. If we determine that one would aid this rulemaking, we will hold one at a time and place announced by a later notice in the Federal Register.

B. Regulatory History and Information

Previously, the Coast Guard promulgated either safety zones or special local regulations for most of the events associated with this proposed rule and received no public comments. The most recent promulgated rulemaking was on May 24, 2013 when the Coast Guard published a Final Rule, entitled, “Safety Zones and Special Local Regulations; Recurring Marine Events in Captain of the Port Sector Long Island Sound Zone” in the Federal Register (78 FR 31402).

C. Basis and Purpose

The legal basis for this rulemaking is 33 U.S.C. 1233, which authorizes the Coast Guard to establish special local regulations.

This proposed regulation carries out two related actions: (1) Establishing necessary special local regulations; and (2) updating and reorganizing existing regulations for ease of use and reduction of administrative overhead.

D. Discussion of Proposed Rule

The Coast Guard proposes to amend 33 CFR 100.100 “Special Local Regulations; Regattas and Boat Races in the Coast Guard Sector Long Island Sound Captain of the Port Zone” by establishing 16 permanent marine events regulated areas, removing five, and modifying three marine event special local regulations. By proposing these permanent regulation updates, we are providing the public with an opportunity to comment on these changes. This rulemaking limits the unnecessary burden of establishing temporary rules for events that occur on an annual basis.

(1) Establishing New Marine Event Regulated Areas

This rulemaking proposes to establish 16 permanent marine event special local regulations under 33 CFR 100.100. These events include fireworks displays, swimming events, and regattas that take place throughout the Long Island Sound COTP Zone. Event locations and details are listed below in the text of the regulation. Because large numbers of spectator vessels are expected to congregate around the location of these events, these regulated areas are needed to protect both spectators and participants from the safety hazards associated with marine events, including large numbers of swimmers, hard to see and unstable small boats, unexpected pyrotechnics detonation, and burning debris. This rule would permanently establish regulated areas that restrict vessel movement around the location of each marine event to reduce the associated safety.

During the enforcement period of the regulated areas, persons and vessels would be prohibited from entering, transiting through, remaining, anchoring, or mooring within the regulated area unless specifically authorized by the COTP or the designated representative. Persons and vessels would be able to request authorization to enter, transit through, remain, anchor, or moor within the regulated areas by contacting the COTP Sector Long Island Sound, or designated representative, by telephone at (203) 468-4401 or via VHF radio on channel 16. If authorization to enter, transit through, remain, anchor, or moor within any of the regulated areas is granted, all persons and vessels receiving authorization would be required to comply with the instructions of the COTP or designated representative.

The Coast Guard COTP Sector Long Island Sound or designated representative would enforce the regulated areas. These designated representatives are comprised of commissioned, warrant, and petty officers of the Coast Guard. The Coast Guard may be assisted by other federal, state and local agencies in the enforcement of these regulated areas.

Certain special local regulations are listed without known dates or times. Coast Guard Sector Long Island Sound will cause notice of the enforcement of these regulated areas to be made by all appropriate means to affect the widest publicity among the effected segments of the public, including publication in the Federal Register as a Notice of Enforcement, Local Notice to Mariners, and Broadcast Notice to Mariners.

(2) Remove old Special Local Regulations That Are no Longer Needed

This rulemaking proposes to remove five special local regulations from the TABLE to § 100.100: (1) 1.3 Head of the Connecticut Regatta, Connecticut River, CT as the event has not been held since 2012 and the sponsoring organization, the City of Middletown, has confirmed that they do not intend to hold the event again in the foreseeable future; (2) 1.4 Riverfront Regatta, Hartford, CT as the event's details have significantly changed and is no longer the same event; (3) 1.5 Patchogue Grand Prix, Patchogue, NY as the event has not been held since 2010 and the sponsoring organization, Offshore Powerboat Association, has confirmed that they do not intend to hold the event again in the foreseeable future; (4) 1.6 Riverfront U.S. Title series Powerboat Race, Hartford, CT as the event has not been held since 2011 and the sponsoring organization, Riverfront Recaptured, has confirmed that they do not intend to hold the event again in the foreseeable future; and (5) 1.8 Kayak for a Cause Regatta as the event has not been held since 2012 and the sponsoring organization, Kayak for a Cause, has disbanded.

(3) Modify and Update Existing Regulated Areas

This rule proposes to amend the following special local regulations from the TABLE to § 100.100: (1) 1.1 Harvard-Yale Regatta, Thames River, New London, CT is to be moved to 5.1 on the TABLE to § 100.100; (2) 1.2 Great Connecticut River Raft Race, Middletown is to be moved to 7.1 on the TABLE to § 100.100 and the name changed to Connecticut River Raft Race, Middletown, CT; and (3) 1.7 Hartford Dragon Boat Regatta is be renamed the Riverfront Dragon Boat and Asian Festival and to be moved to 8.1 on the TABLE to § 100.100.

E. Regulatory Analyses

We developed this proposed rule after considering numerous statutes and executive orders related to rulemaking. Below we summarize our analyses based on a number of these statutes or executive orders.

1. Regulatory Planning and Review

This proposed rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

The Coast Guard determined that this proposed rulemaking is not a significant regulatory action for the following reasons: The regulated areas are of limited duration and vessels may transit the navigable waterways outside of the regulated areas. Persons or vessels requiring entry into the regulated areas may be authorized to do so by the COTP Sector Long Island Sound or designated representative.

Advanced public notifications will also be made to local mariners through appropriate means, which may include but is not limited to Local Notice to Mariners and Broadcast Notice to Mariners.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule will not have a significant economic impact on a substantial number of small entities.

This proposed rule would affect the following entities, some of which may be small entities: The owners or operators of vessels intending to enter, transit, anchor or moor within the regulated areas during the enforcement periods.

The special local regulations will not have a significant economic impact on a substantial number of small entities for the following reasons: The regulated areas are of short duration, vessels that can safely do so may navigate in all other portions of the waterways except for the areas designated as regulated areas, and vessels requiring entry into the regulated areas may be authorized to do so by the COTP Sector Long Island Sound or designated representative. Additionally, before the enforcement periods, public notifications will be made to local mariners through appropriate means, which may include but is not limited to Local Notice to Mariners and Broadcast Notice to Mariners.

If you think that your business, organization, or governmental jurisdiction qualifies as a small entity and that this rule would have a significant economic impact on it, please submit a comment (see ADDRESSES) explaining why you think it qualifies and how and to what degree this rulemaking would economically affect it.

3. Assistance for Small Entities

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT, above. The Coast Guard will not retaliate against small entities that question or complain about this proposed rule or any policy or action of the Coast Guard.

4. Collection of Information

This proposed rule will not call for a new collection of information under the Paperwork Reduction Act of 1995 (44 U.S.C. 3501-3520.).

5. Federalism

A rule has implications for federalism under Executive Order 13132, Federalism, if it has a substantial direct effect on the States, on the relationship between the national government and the States, or on the distribution of power and responsibilities among the various levels of government. We have analyzed this proposed rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

8. Taking of Private Property

This proposed rule would not cause a taking of private property or otherwise have taking implications under Executive Order 12630, Governmental Actions and Interference with Constitutionally Protected Property Rights.

9. Civil Justice Reform

This proposed rule meets applicable standards in sections 3(a) and 3(b)(2) of Executive Order 12988, Civil Justice Reform, to minimize litigation, eliminate ambiguity, and reduce burden.

10. Protection of Children from Environmental Health Risks

We have analyzed this proposed rule under Executive Order 13045, Protection of Children from Environmental Health Risks and Safety Risks. This rule is not an economically significant rule and would not create an environmental risk to health or risk to safety that might disproportionately affect children.

11. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This proposed rule is not a “significant energy action” under Executive Order 13211, Actions Concerning Regulations That Significantly Affect Energy Supply, Distribution, or Use.

13. Technical Standards

This proposed rule does not use technical standards. Therefore, we did not consider the use of voluntary consensus standards.

14. Environment

We have analyzed this proposed rule under Department of Homeland Security Management Directive 023-01 and Commandant Instruction M16475.lD, which guide the Coast Guard in complying with the National Environmental Policy Act of 1969 (NEPA)(42 U.S.C. 4321-4370f), and have made a preliminary determination that this action is one of a category of actions that do not individually or cumulatively have a significant effect on the human environment. This proposed rule involves the establishment of special local regulations. This rule may be categorically excluded from further review under paragraph 34(h) of Figure 2-1 of the Commandant Instruction. A preliminary environmental analysis checklist supporting this determination and a Categorical Exclusion Determination are available in the docket where indicated under ADDRESSES. We seek any comments or information that may lead to the discovery of a significant environmental impact from this proposed rule.

List of Subjects in 33 CFR Part 100

Marine safety, Navigation (water), Reporting and recording requirements, Waterways.

For the reasons discussed in the preamble, the Coast Guard proposes to amend 33 CFR part 100 as follows:

PART 100—SAFETY OF LIFE ON NAVIGABLE WATERS

1. The authority citation for part 100 continues to read as follows:

Authority: 33 U.S.C. 1233.

§ 100.100 Special Local Regulations; Regattas and Boat Races in the Coast Guard Sector Long Island Sound Captain of the Port Zone.

2. Revise the Table to § 100.100 to read as follows:

Table to § 100.100
5 | May
5.1 Harvard-Yale Regatta, Thames River, New London, CT | • Event type: Boat Race. • Date: A single day between the last Saturday in May through second Saturday of June. Rain Date: A single day between the last Saturday in May through second Saturday of June.
| • Time (Approximate): 8:00 a.m. to 5:00 p.m. • Location: All waters of the Thames River at New London, Connecticut, between the Penn Central Draw Bridge at position 41°21′46.94″ N. 072°5′14.46″ W. to Bartlett Cove at position 41°25′35.9″ N. 072°5′42.89″ W. (NAD 83). All positions are approximate.
5.2 Jones Beach Air Show | • Event type: Boat Race.
| • Date: The Thursday through Sunday before Memorial Day each May.
| • Time: (1) The “No Entry Area” will be enforced each day from the start of the air show until 30 minutes after it concludes. Exact time will be determined annually.
| (2) The “Slow/No Wake Area” and the “No Southbound Traffic Area” will be enforced each day for six hours after the air show concludes. Exact time will be determined annually.
| • Location: (1) “No Entry Area”: Waters of the Atlantic Ocean off Jones Beach State Park, Wantagh, NY contained within the following described area; beginning at a point on land at position 40°34′54″ N., 073°33′21″ W.; then east along the shoreline of Jones Beach State Park to a point on land at position 40°35′53″ N., 073°28′48″ W.; then south to a point in the Atlantic Ocean off of Jones Beach at position 40°35′05″ N., 073°28′34″ W.; then west to position 40°33′15″ N., 073°33′09″ W.; then north to the point of origin (NAD 83). All positions are approximate.
| (2) “Slow/No Wake Area”: All navigable waters between Meadowbrook State Parkway and Wantagh State Parkway and contained within the following area. Beginning in position 40°35′49.01″ N., 73°32′33.63″ W.; then north along the Meadowbrook State Parkway to its intersection with Merrick Road in position 40°39′14″ N., 73°34′0.76″ W.; then east along Merrick Road to its intersection with Wantagh State Parkway in position 40°39′51.32″ N. 73°30′43.36″ W.; then south along the Wantagh State Parkway to its intersection with Ocean Parkway in position 40°35′47.30″ N. 073°30′29.17″ W.; then west along Ocean Parkway to its intersection with Meadowbrook State Parkway at the point of origin (NAD 83). All positions are approximate.
| (3) “No Southbound Traffic Area”: All navigable waters of Zach′s Bay south of the line connecting a point near the western entrance to Zach′s Bay at position 40°36′29.20″ N., 073°29′22.88″ W. and a point near the eastern entrance of Zach′s Bay at position 40°36′16.53″ N. 073°28′57.26″ W. (NAD 83). All positions are approximate.
6 | June
6.1 Swim Across America Greenwich | • Event type: Swimming. • Date: One day in June to be determined annually.
| • Time (Approximate): 5:30 a.m. until 12:00 p.m.
| • Location: All navigable waters of Stamford Harbor within an area starting at a point in position 41°01′32.03″ N., 073°33′8.93″ W., then southeast to a point in position 41°01′15.01″ N., 073°32′55.58″ W.; then southwest to a point in position 41°0′49.25″ N., 073°33′20.36″ W.; then northwest to a point in position 41°0′58″ N., 073°33′27″ W., then northeast to a point in position 41°1′15.8″ N., 073°33′9.85″ W., then heading north and ending at point of origin (NAD 83). All positions are approximate.
7 | July
7.1 Connecticut River Raft Race, Middletown, CT | • Event type: Boat Race. • Date: A day between the last Saturday in July through first Saturday of August.
| • Time (Approximate): 10:00 a.m. to 2:00 p.m.
| • Location: All waters of the Connecticut River near Middletown, CT between Gildersleeve Island (Marker no. 99) at position 41°36′02.13″ N., 072°37′22.71″ W. and Portland Riverside Marina (Marker no. 88) at position 41°33′38.3″ N., 072°37′36.53″ W. (NAD 83). All positions are approximate.
| • Additional Stipulations: Spectators or other vessels shall not anchor, block, loiter, or impede the transit of event participants or official patrol vessels in the regulated areas unless authorized by COTP or designated representative.
7.2 Dolan Family Fourth Fireworks | • Event type: Fireworks Display. • Date: July 4.
| • Rain date: July 5.
| • Time (Approximate):
| (1) The “No Entry Area” will be enforced from 8:30 p.m. to 10:30 p.m.
| (2) The “Slow/No Wake Area” will be enforced from 7:00 p.m. to 12:00 a.m.
| • Locations:
| (1) “No Entry Area”: All waters of Oyster Bay Harbor in Long Island Sound off Oyster Bay, NY within a 1000 foot radius of the launch platform in approximate position 40°53′42.50″ N., 073°30′4.30″ W. (NAD 83).
| (2) “Slow/No Wake Area”: All waters of Oyster Bay Harbor in Long Island Sound off Oyster Bay, NY contained within the following area; beginning at a point on land in position at 40°53′12.43″ N., 073°31′13.05″ W. near Moses Point; then east across Oyster Bay Harbor to a point on land in position at 40°53′15.12″ N., 073°30′38.45″ W. then north along the shoreline to a point on land in position at 40°53′34.43″ N., 073°30′33.42″ W. near Cove Point; then east along the shoreline to a point on land in position at 40°53′41.67″ N., 073°29′40.74″ W. near Cooper Bluff; then south along the shoreline to a point on land in position 40°53′5.09″ N., 073°29′23.32″ W. near Eel Creek; then east across Cold Spring Harbor to a point on land in position 40°53′6.69″N, 073°28′19.9″W; then north along the shoreline to a point on land in position 40°55′24.09″ N., 073°29′49.09″ W. near Whitewood Point, then west across Oyster Bay to a point on land in position 40°55′5.29″ N., 073°31′19.47″ W. near Rocky Point, then south along the shoreline to a point on land in position 40°54′4.11″ N., 073°30′29.18″ W. near Plum Point, then northwest along the shoreline to a point on land in position 40°54′9.06″ N., 073°30′45.71″ W., then southwest along the shoreline to a point on land in position 40°54′3.2″ N., 073°31′1.29″ W., and then south along the shoreline back to point of origin (NAD 83). All positions are approximate.
7.3 Clam Shell Foundation Fireworks | • Event type: Fireworks Display. • Date: One day in July to be determined annually.
| • Time (Approximate):
| (1) The “No Entry Area” will be enforced from 9:00 p.m. to 10:30 p.m.
| (2) The “Northbound Traffic Only Area” will be enforced from 10:30 p.m. to 12:00 a.m.
| • Locations:
| (1) “No Entry Area”: All waters of Three Mile Harbor, East Hampton, NY within a 1000 foot radius of the launch platform in approximate position 41°1′15.49″ N., 072°11′27.5″ W. (NAD 83).
| (2) “Northbound Traffic Only Area″: All waters of Three Mile Harbor, East Hampton, NY contained within the following area; beginning at a point in position at 41°2′5.05″ N., 072°11′19.52″ W.; then southeast to a point on land in position at 41°2′2.67″ N., 072°11′17.97″ W.; then south along shoreline to a point on land in position at 41°1′35.26″ N., 072°11′9.56″ W.; then southeast across channel to a point on land in position at 41°1′30.28″ N., 072°10″52.77″ W.; then north along the shoreline to a point on land in position at 41°1′41.35″ N., 072°10′52.57″ W.; then north across channel to a point on land in position at 41°1′44.41″ N., 072°10′52.23″ W. near the southern end of Sedge Island; then north along shoreline of Sedge Island to a point on land in position at 41°1′56.3″ N., 072°10′59.37″ W., near the northern end of Sedge Island; then northwest across the channel to a point on land in position 41°1′56.76″ N., 072°11′0.66″ W.; then northwest along shoreline to a point on land in position 41°1′41.35″ N., 072°10′52.57″ W.; then northwest to position at 41°2′5.92″ N., 072°11′16.73″ W.; and then southwest to point of origin (NAD 83). All positions are approximate.
7.4 Jones Beach State Park Fireworks | • Event type: Fireworks Display. • Date: July 4.
| • Rain date: July 5.
| • Time: 8:30 p.m. to 10:30 p.m.
| • Time (Approximate):
| (1) The “No Entry Area” will be enforced from 8:30 p.m. to 10:30 p.m.
| (2) The “Slow/No Wake Area” and the “No Southbound Traffic Area” will be enforced from 9:30 p.m. to 12:00 a.m.
| • Locations:
| (1) “No Entry Area”: All waters off of Jones Beach State Park, Wantagh, NY within a 1000 foot radius of the launch platform in approximate position 40°34′56.68″ N., 073°30′31.19″ W. (NAD 83).
| (2) “Slow/No Wake Area”: All navigable waters between Meadowbrook State Parkway and Wantagh State Parkway and contained within the following area. Beginning in position at 40°35′49.01″ N., 073°32′33.63″ W.; then north along the Meadowbrook State Parkway to its intersection with Merrick Road in position at 40°39′14″ N., 073°34′0.76″ W.; then east along Merrick Road to its intersection with Wantagh State Parkway in position at 40°39′51.32″ N., 073°30′43.36″ W.; then south along the Wantagh State Parkway to its intersection with Ocean Parkway in position at 40°35′47.30″ N., 073°30′29.17″ W.; then west along Ocean Parkway to its intersection with Meadowbrook State Parkway at the point of origin (NAD 83). All positions are approximate.
| (3) “No Southbound Traffic Area”: All navigable waters of Zach's Bay south of the line connecting a point near the western entrance to Zach's Bay in position at 40°36′29.20″ N., 073°29′22.88″ W. and a point near the eastern entrance of Zach's Bay in position at 40°36′16.53″ N., 073°28′57.26″ W. (NAD 83). All positions are approximate.
7.5 Maggie Fischer Memorial Great South Bay Cross Bay Swim | • Event type: Swimming. • Date: One day in July to be determined annually.
| • Time (Approximate): 6:30 a.m. to 12:30 p.m.
| • Location: Waters of the Great South Bay, NY within 100 yards of the race course. Starting Point at the Fire Island Lighthouse Dock in position at 40°38′01″ N., 073°13′07″ W.; then north-by-northwest to a point in position at 40°38′52″ N., 073°13′09″ W.; then north-by-northwest to a point in position at 40°39′40″ N., 073°13′30″ W.; then north-by-northwest to a point in position at 40°40′30″ N., 073°14′00″ W.; and then north-by-northwest, finishing at Gilbert Park, Brightwaters, NY at position 40°42′25″ N., 073°14′52″ W. (NAD 83). All positions are approximate.
7.6 Aquapalooza, Zach's Bay | • Event type: Regatta.
| • Date: One day in July to be determined annually.
| • Time (Approximate): 11:30 a.m. to 8:00 p.m.
| • Location: All navigable waters of Zach's Bay, Wantagh, NY south of the line connecting a point near the western entrance to Zach's Bay in approximate position 40°36′29.20″ N., 073°29′22.88″ W. and a point near the eastern entrance of Zach's Bay in approximate position 40°36′16.53″ N., 073°28′57.26″ W.
| • Additional stipulations: During the enforcement period vessel speed in the regulated area is restricted to no wake speed or 6 knots, whichever is slower. On the day of the event from 3 p.m. to 5:30 p.m. vessels may only transit the regulated area in the northbound direction or outbound direction.
7.7 Fran Schnarr Open Water Championship Swim | • Event type: Swimming. • Date: One day in July to be determined annually.
| • Time (Approximate): 7:15 a.m. to 1:30 p.m.
| • Location: Waters of Huntington Bay, NY within 100 yards of the race course. Starting in position at 40°54′25.3″ N., 073°24′27.9″ W.; then northeast to a position at 40°54′32″ N., 73°23′57.7″ W.; then northwest to a position at 40°54′37.9″ N., 073°23′57.2″ W.; then southwest to a position at 40°54′33.2″ N., 073°25′28.1″ W.; then southeast to a position at 40°54′25.5″ N., 073°25′25.7″ W.; and then southeast to point of origin (NAD 83). All positions are approximate.
8 | August
8.1 Riverfront Dragon Boat and Asian Festival | • Event type: Boat Race. • Dates: Saturday and Sunday during the third weekend of August.
| • Time (Approximate): 8:00 a.m. until 4:30 p.m. each day.
| • Regulated area: All waters of the Connecticut River in Hartford, CT between the Bulkeley Bridge at 41°46′10.10″ N., 072°39′56.13″ W. and the Wilbur Cross Bridge at 41°45′11.67″ N., 072°39′13.64″ W. (NAD 83). All positions are approximate.
8.2 Swim Across the Sound | • Event type: Swimming. • Date: One day in August determined annually.
| • Time (Approximate): 8:30 a.m. to 7:30 p.m.
| • Location: Waters of Long Island Sound from Port Jefferson, NY in approximate position 40°58′11.71″ N., 073°05′51.12″ W., then northwest to Captain's Cove Seaport, Bridgeport, CT in approximate position 41°09′25.07″ N., 073°12′47.82″ W. (NAD 83).
8.3 Stonewall Swim | • Event type: Swimming.
| • Date: One day during a weekend in August determined annually.
| • Time (Approximate): 8:30 a.m. until 12:30 p.m.
| • Location: All navigable waters of the Great South Bay within a three miles long and half mile wide box connecting Snedecor Avenue in Bayport, NY to Porgie Walk in Fire Island, NY. Formed by connecting the following points. Beginning at 40°43′40.24″ N., 073°03′41.50″ W.; then to 40°43′40.00″ N., 073°03′13.40″ W.; then to 40°40′04.13 N., 073°03′43.81″ W.; then to 40°40′08.30″ N., 073°03′17.70″ W.; and ending at the beginning point 40°43′40.24″ N., 073°03′41.5″ W. (NAD 83).
8.4 Island Beach Two Mile Swim | • Event type: Swimming.
| • Date: One day in August to be determined annually.
| • Time (Approximate): 7:30 a.m. to 11:30 a.m.
| • Location: All waters of Captain Harbor between Little Captain's Island and Bower's Island that are located within the box formed by connecting four points in the following positions. Beginning at 40°59′23.35″ N. 073°36′42.05″ W., then northwest to 40°59′51.04″ N. 073°37′57.32″ W., then southwest to 40°59′45.17″ N. 073°38′01.18″ W., then southeast to 40°59′17.38″ N. 073°36′45.9″ W., then northeast to the point of origin (NAD 83). All positions are approximate.
8.5 Waves of Hope Swim | • Event type: Swimming.
| • Date: One day in August to be determined annually.
| • Time (Approximate): 9:30 a.m. to 12:30 p.m.
| • Location: All waters of the Great South Bay off Amityville, NY shoreward of a line created by connecting the following points. Beginning at a point at 40°39′22.38″ N., 073°25′31.63″ W., then south to a point at 40°39′2.18″ N., 073°25′31.63″ W., then east to a point at 40°39′2.18″ N., 073°24′3.81″ W., then north to a point at 40°39′18.27″ N., 073°24′3.81″ W., and then west back to point of origin (NAD 83). All positions are approximate.
8.6 Smith Point Triathlon | • Event type: Swimming.
| • Date: A day during a weekend in August to be determined annually.
| • Time (Approximate): 6:20 a.m. to 9:30 a.m.
| • Location: All waters of Narrow Bay near Smith Point Park in Mastic Beach, NY within the area bounded by land along its southern edge and points in position at 40°44′14.28”N 072° 51′40.68”W, then north to a point at position 40°44′20.83”N 072°51′40.68”W, then east to a point at position 40°44′20.83”N 072°51′19.73”W, then south to a point at position 40°44′14.85”N 072°51′19.73”W, and then southwest along the shoreline back to the point of origin (NAD 83). All positions are approximate.
9 | September
9.1 Head of the Tomahawk | • Event type: Regatta.
| • Date: A one day event either on a Saturday or Sunday between September 15 and October 15.
| • Time (Approximate): 7:30 a.m. to 2:30 p.m.
| • Location: All navigable waters of the Connecticut River off South Glastonbury, CT Beginning at position 41°41′18.88″N; 072°37′16.26″ W., then downriver along the west bank to a point at position 41°38′49.12″ N.; 072°37′32.73″ W., then across the Connecticut River to a point at position 41°38′49.5″ N.; 072°37′19.55″ W., then upriver along the east bank to a point at position 41°41′25.82″ N.; 072°37′9.08″ W., then across the Connecticut River to the point of origin (NAD 83).
| • Additional Stipulations: Non-event vessels transiting through the area during the enforcement period are to travel at no wake speeds or 6 knots, whichever is slower and that non-event vessels shall not block or impede the transit of event participants, event safety vessels or official patrol vessels in the regulated area unless authorized by COTP or designated representatives.
10 | October
10.1 Head of the Riverfront Rowing Regatta, Hartford, CT | • Event type: Regatta. • Date: The first Sunday of October, from 8:30 a.m. until 4:30 p.m.
| • Location: All water of the Connecticut River, Hartford, CT, between at point North of Wethersfield Cove at 41°43′52.17″ N.; 072°38′40.38″ W. and the Riverside Boat House 41°46′30.98″ N.; 072° 39′54.35″ W. (NAD 83).

Dated: June 8, 2015.
E. J. Cubanski, III,
Captain, U. S. Coast Guard, Captain of the Port Sector Long Island Sound.

[FR Doc. 2015-15406 Filed 6-22-15; 8:45 am]

BILLING CODE 9110-04-P